DEPARTMENT OF COMMERCE

National Oceanic and Atmospheric Administration

RIN 0648-XO05

Climate and Sustainability Conference

AGENCY: National Oceanic and Atmospheric Administration (NOAA), Commerce.

ACTION: Notice of a public meeting.

SUMMARY: The National Oceanic and Atmospheric Administration (NOAA) and the International Trade Administration will host a seminar on April 1, 2009 at the U.S. Department of Commerce, 14th Street and Constitution Avenue, NW, Washington, DC 20230, in Room 4830. The seminar will present climate data, services, and programs available from the U.S. Department of Commerce for U.S. companies coming to terms with climate variability. The agenda will feature strategies for sustainability, competitiveness, and networking for the business community.

DATES: The meeting will begin at 8:30 a.m. on Wednesday, April 1, 2009, recess at 3:00 p.m.

ADDRESSES: Department of Commerce, 14th and Constitution NW, Washington DC 20230, Room 4830.

FOR FURTHER INFORMATION CONTACT: To register, please email your name, company name, contact information including email and phone number to:

April1.Conference@mail.doc.gov. For further information, phone Ellen Bohon, Office of Energy and Environmental Technologies Industries (OEEI), International Trade Administration, U.S. Department of Commerce at (202) 482-0359.

SUPPLEMENTARY INFORMATION:

Special Accommodations

This meeting is physically accessible to people with disabilities. Requests for sign language interpretation or other auxiliary aids should be directed to (202) 482-0359.

Dated: March 10, 2009.
Captain Todd Stiles,
Executive Director, Office of the Deputy Under Secretary, National Oceanic and Atmospheric Administration.

[FR Doc. E9-5640 Filed 3-13-09; 8:45 am]

BILLING CODE 3510-12-S